ELECTION ASSISTANCE COMMISSION

Sunshine Act Meeting

AGENCY: Election Assistance Commission.

ACTION: Notice of public meeting for EAC Standards Board.

Date and Time: Wednesday, February 2, 2005, 2 p.m.-5:30 p.m. and Thursday, February 3, 2005, 8:30 a.m.-3 p.m.

Place: Hyatt Regency Capitol Hill, 400 New Jersey Avenue, NW., Washington, DC 20005—(Metro Stop: Union Station).

Topics: The U.S. Election Assistance Commission (EAC) Standards Board, as required by the Help America Vote Act of 2002, will meet to present its views on issues in the administration of federal elections, and formulate recommendations to the EAC.

Person To Contact for Information: Bryan Whitener, Telephone: (202) 566-3100.

Gracia M. Hillman,
Chair, U.S. Election Assistance Commission.

[FR Doc. 05-1350 Filed 1-21-05; 9:04 am]

BILLING CODE 6820-YN-M